ARCTIC RESEARCH COMMISSION

[USARC 06-142]

Notice of 82nd Meeting

DATE: December 21, 2006.

Notice is hereby given that the U.S. Arctic Research Commission will hold its 82nd meeting in Anchorage, AK on January 24-25, 2007. The Business Session, open to the public, will convene at 12:30 p.m. Wednesday, January 24, 2007 in Anchorage. An Executive Session will follow adjournment of the Business Session.

The Agenda items include:

(1) Call to order and approval of the Agenda.

(2) Approval of the Minutes of the 81st Meeting.

(3) Reports from Congressional Liaisons.

(4) Agency Reports.

The focus of the meeting will be reports and updates on programs and research projects affecting the Arctic.

Any person planning to attend this meeting who requires special accessibility features and/or auxiliary aids, such as sign language interpreters, must inform the Commission in advance of those needs.

Contact Person for More Information: John Farrell, Executive Director, US Arctic Research Commission, 703-525-0111 or TDD 703-306-0090.

John Farrell,
Executive Director.

[FR Doc. 06-9942 Filed 12-29-06; 8:45 am]

BILLING CODE 7555-01-M